DEPARTMENT OF EDUCATION

Clarification on Reopening the Application Period for Certain Applicants Under the Higher Education Emergency Relief Fund (HEERF), Sections 18004(a)(1), 18004(a)(2), and 18004(a)(3); Coronavirus Aid, Relief, and Economic Security (CARES) Act

AGENCY: Office of Postsecondary Education, Department of Education.

ACTION: Notice; clarification.

SUMMARY: The Secretary is providing notice that the newly-enacted Consolidated Appropriations Act, 2021 (the 2021 Appropriations Act) supersedes the Department of Education's (Department's) notice published in the Federal Register on December 23, 2020, that reopened the HEERF grant program application period for certain limited applicants (Reopening Notice). The 2021 Appropriations Act prevents the Department from accepting or processing any applications for new awards under section 18004(a)(1) of the CARES Act (i.e., the “Student Aid Portion” program (Catalog of Federal Domestic Assistance Number (CFDA) 84.425E) and the “Institutional Portion” program (CFDA 84.425F)).

FOR FURTHER INFORMATION CONTACT: Karen Epps, U.S. Department of Education, 400 Maryland Avenue SW, Room 250-64, Washington, DC 20202. Email: HEERF@ed.gov. Telephone: (202) 453-6337. Please also visit our HEERF website: www2.ed.gov/about/offices/list/ope/caresact.html.

If you use a telecommunications device for the deaf (TDD) or a text telephone (TTY), call the Federal Relay Service (FRS), toll free, at 1-800-877-8339.

SUPPLEMENTARY INFORMATION: On December 23, 2020 (85 FR 83917), the Department published the Reopening Notice, which reopened the HEERF application period for applicants that met one of the five conditions described in the Reopening Notice and that we verified previously had attempted to apply through grants.gov for a specific HEERF funding opportunity.

The 2021 Appropriations Act (H.R. 133) was signed into law by President Donald Trump on December 27, 2020. It supersedes, in part, the Reopening Notice and requires that any unobligated CARES Act section 18004(a)(1) funds be used by the Department to carry out section 314(a)(1) of the 2021 Appropriations Act, which allocates funds to certain institutions of higher education under a new formula. Therefore, there are no remaining funds to award to institutions under the CARES Act “Student Aid Portion” program (CFDA 84.425E) and the “Institutional Portion” program (CFDA 84.425F), and the Department cannot accept or process applications for these funds under the Reopening Notice, including applications received prior to December 27, 2020 in response to the Reopening Notice.

Note: While the Department cannot accept or process any applications for CARES Act section 18004(a)(1) program funds, we are still able to accept applications for our section 18004(a)(2) and (a)(3) HEERF programs (CFDAs 84.425J, 84.425K, 84.425L, 84.425M, 84.425N) from applicants that meet one of the five conditions described in the Reopening Notice and that we verified previously have attempted to apply through grants.gov for one of these HEERF grant opportunities. Applicants for those funds must follow the requirements specified in the Reopening Notice and submit their revised or corrected applications no later than January 11, 2021.

Note: The requirements described in this notice apply only to CARES Act section 18004(a)(1) HEERF funds not yet awarded by the Department to institutions. They do not apply to funds that were awarded to institutions by the Department prior to the enactment of the 2021 Appropriations Act, but that have not yet been spent by institutions. Institutions that received awards under section 18004(a)(1) of the CARES Act continue to have one calendar year from the date of their award to expend funds under their grant period of performance.

Note: The Department intends to issue guidance at a future date regarding the grant opportunities created by section 314 of the 2021 Appropriations Act, including the circumstances under which institutions that did not receive funds under section 18004(a)(1) of the CARES Act can apply for funding under the 2021 Appropriations Act.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Robert L. King,
Assistant Secretary for Postsecondary Education.

[FR Doc. 2020-29298 Filed 1-5-21; 8:45 am]

BILLING CODE 4000-01-P